DEPARTMENT OF STATE

[Public Notice: 11684]

Secretary of State's Determination Under the Foreign Assistance Act of 1961 To Provide Assistance to Ukraine

ACTION: Determination.

SUMMARY: The State Department is publishing a determination signed September 2, 2021 by the Secretary of State regarding the provision of military assistance to Ukraine.

SUPPLEMENTARY INFORMATION: Below is the “Determination Under Section 506(a)(1) of the Foreign Assistance Act of 1961 to Provide Assistance to Ukraine.”

Stanley L. Brown,
Acting Assistant Secretary, Bureau of Political-Military Affairs, Department of State.

[FR Doc. 2022-08111 Filed 4-14-22; 8:45 am]

BILLING CODE 4710-25-P